NATIONAL SCIENCE FOUNDATION

U.S. National Assessment Synthesis Team; Notice of Meeting

In accordance with the Federal Advisory Committee Act (Public Law 92-463, as amended), the National Science Foundation announces the following meeting.

Name: U.S. National Assessment Synthesis Team (#5219).

Date and Time: May 31, 2000, 8:30 a.m.-5:30 p.m., June 1, 2000, 8:30 a.m.-3:30 p.m.

Place: Renaissance Hotel, 999 Ninth Street, NW, Washington DC 20001.

Type of Meeting: Open.

Contact Person: Dr. Thomas Spence, National Science Foundation, 4201 Wilson Blvd., Suite 705, Arlington, VA 22230. Tel. 703-306-1502; Fax: 703-306-0372; E-mail: tspence@nsf.gov. Interested persons should contact Ms. Susan Henson at the above number as soon as possible to ensure space provisions are made for all participants and observers.

Minutes: May be obtained subsequent to the meeting from the contact person listed above.

Purpose of Meeting: To review preparation of the report the National Assessment Synthesis Team is preparing for the interagency Subcommittee on Global Change Research to report on the findings of the National Assessment of the potential consequences of climate variability and climate change for the United States.

Agenda: Day 1 (May 31): Members will review technical comments received and will discuss revisions to report; and opportunity for public comment will be provided in later afternoon. Day 2 (June 1): Discussion of technical comments and revisions will continue.

Dated: May 12, 2000.
Karen J. York,
Committee Management Officer.

[FR Doc. 00-12454 Filed 5-17-00; 8:45 am]

BILLING CODE 7555-01-M